DEPARTMENT OF THE TREASURY

Internal Revenue Service

26 CFR Part 48

[PS-6-95; REG-209753-95]

RIN 1545-AT18

Diesel Fuel Excise Tax; Dye Injection Systems

AGENCY: Internal Revenue Service (IRS), Treasury.

ACTION: Partial withdrawal of notice of proposed rulemaking.

SUMMARY: This document withdraws the notice of proposed rulemaking as it relates to diesel fuel dye injection systems which was published on March 14, 1996. It affects certain enterers, refiners, terminal operators, and throughputters.

FOR FURTHER INFORMATION CONTACT: Frank Boland, (202) 622-3130 (not a toll-free number).

SUPPLEMENTARY INFORMATION:

Background

On March 14, 1996, the IRS issued proposed regulations (PS-6-95; REG-209753-95) relating to diesel fuel dye injection systems and the measurement of taxable fuel (61 FR 10490). The Treasury Department does not have any plans at the present time to issue final regulations relating to dye injection systems.

List of Subjects in 26 CFR Part 48

Excise taxes, Reporting and recordkeeping requirements.

Withdrawal of Notice of Proposed Rulemaking

Accordingly, under the authority of 26 U.S.C. 7805, the notice of proposed rulemaking as it relates to dye injection systems that was published in the Federal Register on March 14, 1996 (61 FR 10490) is withdrawn.

Robert E. Wenzel,
Deputy Commissioner of Internal Revenue.

[FR Doc. 00-7352 Filed 3-30-00; 8:45 am]

BILLING CODE 4830-01-U